DEPARTMENT OF THE TREASURY

Submission for OMB Review; Comment Request

July 19, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 25, 2000 to be assured of consideration.

Internal Revenue Service (IRS)

OMB Number: 1545-0675.

Form Number: IRS Form 1040EZ.

Type of Review: Revision.

Title: Income Tax Return for Single and Joint Filers With No Dependents.

Description: Form 1040EZ is used by certain individuals to report their income subject to income tax and to figure their correct tax liability. The data is also used to verify that the items reported on the form are correct and are also for general statistical use.

Respondents: Individuals or households.

Estimated Number of Respondents/Recordkeepers: 15,159,869.

Estimated Burden Hours Per Respondent/Recordkeeper:

Recordkeeping | 4 min.
Learning about the law or the form | 1 hr., 38 min.
Preparing the form | 1 hr., 50 min.
Copying, assembling, and sending the form to the IRS | 22 min.

Frequency of Response: Annually.

Estimated Total Reporting/Recordkeeping Burden: 44,008,325 hours.

OMB Number: 1545-0998.

Form Number: IRS Form 8615.

Type of Review: Extension.

Title: Tax for Children Under Age 14 Who Have Investment Income of More Than $1,400.

Description: Under section 1(g), children under age 14 who have unearned income may be taxed on part of that income at their parent's tax rate. Form 8615 is used to see if any of the child's unearned income is taxed at the parent's rate and, if so, to figure the child's tax on his or her unearned income and earned income, if any.

Respondents: Individuals or households.

Estimated Number of Respondents/Recordkeepers: 331,128.

Estimated Burden Hours Per Respondent/Recordkeeper:

Recordkeeping | 26 min.
Learning about the law or the form | 11 min.
Preparing the form | 42 min.
Copying, assembling, and sending the form to the IRS | 20 min.

Frequency of Response: Annually.

Estimated Total Reporting/Recordkeeping Burden: 552,984 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-18847 Filed 7-25-00; 8:45 am]

BILLING CODE 4830-01-P